DEPARTMENT OF TRANSPORTATION

Federal Aviation Administration

14 CFR Part 39

[Docket No. 2000-CE-49-AD; Amendment 39-12030; AD 2000-24-23]

RIN 2120-AA64

Airworthiness Directives; S.N. CENTRAIR 101 Series Gliders

AGENCY: Federal Aviation Administration, DOT.

ACTION: Final rule.

SUMMARY: This amendment adopts a new airworthiness directive (AD) that applies to certain S.N. CENTRAIR 101 series gliders. This AD requires you to inspect the airbrake control system for cracks; and if cracks are detected, replace the airbrake control system. This AD is the result of mandatory continuing airworthiness information (MCAI) issued by the airworthiness authority for France. The actions specified in this AD are intended to detect cracks in the airbrake control system and replace cracked parts with parts of improved design. A crack in the airbrake control system could prevent the pilot from using the airbrake system.

DATES: This AD becomes effective on January 27, 2001.

The Director of the Federal Register approved the incorporation by reference of certain publications listed in the regulations as of January 27, 2001.

ADDRESSES: You may get the service information referenced in this AD from S.N. CENTRAIR, Aerodome—36300 Le Blanc, France; telephone: 02.54.37.07.96; facsimile: 02.54.37.48.64. You may examine this information at the Federal Aviation Administration (FAA), Central Region, Office of the Regional Counsel, Attention: Rules Docket No. 2000-CE-49-AD, 901 Locust, Room 506, Kansas City, Missouri 64106; or at the Office of the Federal Register, 800 North Capitol Street, NW, suite 700, Washington, DC.

FOR FURTHER INFORMATION CONTACT: Mike Kiesov, Aerospace Engineer, FAA, Small Airplane Directorate, 901 Locust, Room 301, Kansas City, Missouri 64106; telephone: (816) 329-4144; facsimile: (816) 329-4090.

SUPPLEMENTARY INFORMATION:

Discussion

What Events Have Caused This AD?

The Direction Générale de l'Aviation Civile (DGAC), which is the airworthiness authority for France, recently told the FAA that an unsafe condition may exist on certain S.N. CENTRAIR 101 series gliders. The DGAC reports that a failure analysis of the welded parts of airbrake arms revealed that cracks could occur in these parts.

What Happens If You Do Not Correct the Condition?

This condition, if not corrected, could result in undetected cracks. Consequently, a crack in the airbrake control system could prevent the pilot from using the airbrake system.

Has FAA Taken Any Action to This Point?

We issued a proposal to amend part 39 of the Federal Aviation Regulations (14 CFR part 39) to include an AD that would apply to certain S.N. CENTRAIR 101 series gliders. This proposal was published in the Federal Register as a notice of proposed rulemaking (NPRM) on September 14, 2000 (65 FR 55466). The NPRM proposed to require you to inspect the airbrake control system for cracks and if cracks are detected, replace the airbrake control system.

Was the Public Invited To Comment?

Interested persons were afforded an opportunity to participate in the making of this amendment. No comments were received on the proposed rule or the FAA's determination of the cost to the public.

The FAA's Determination

What Is FAA's Final Determination on This Issue?

After careful review of all available information related to the subject presented above, we have determined that air safety and the public interest require the adoption of the rule as proposed except for minor editorial corrections. We determined that these minor corrections:

—Will not change the meaning of the AD; and

—Will not add any additional burden upon the public than was already proposed.

Cost Impact

How Many Gliders Does This AD Impact?

We estimate that this AD affects 41 gliders in the U.S. registry.

What Is the Cost Impact of This AD on Owners/Operators of the Affected Gliders?

We estimate the following costs to accomplish the inspection:

Labor cost | Parts cost | Total cost per glider | Total cost on U.S. operators
2 workhours × $60 per hour = $120 | No parts required for the inspection | $120 per glider | $120 × 41 = $4,920.

We estimate the following costs to accomplish the replacement of the airbrake control system if necessary:

Labor cost | Parts cost | Total cost per glider
2 workhours × $60 per hour = $240 | $100 per glider | $340 per glider.

Compliance Time of This AD

Why Is the Compliance Time in Calendar Time?

The compliance time of this AD is in calendar time instead of hours time-in-service (TIS). The average monthly use of the affected gliders ranges throughout the fleet. For example, one owner may operate the glider 25 hours TIS in one week, while another operator may operate the glider 25 hours TIS in one year. In order to ensure that all of the owners/operators of the affected glider have inspected the airbrake control system within a reasonable amount of time, the FAA is utilizing a compliance time of 60 calendar days after the effective date of this AD.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2000-24-23 S.N. Centrair: Amendment 39-12030; Docket No. 2000-CE-49-AD.

(a) What gliders are affected by this AD? This AD affects Models 101, 101A, 101P, and 101AP gliders, all serial numbers up to but not including 101A0628, certificated in any category.

(b) Who must comply with this AD? Anyone who wishes to operate any of the above gliders must comply with this AD.

(c) What problem does this AD address? The actions specified by this AD are intended to detect cracks in the airbrake control system and replace cracked parts with parts of improved design.

(d) What actions must I accomplish to address this problem? To address this problem, you must do the following actions:

Actions | Compliance times | Procedures
(1) Inspect the system for cracks | Within the next 60 calendar days after January 27, 2001 (the effective date of this AD), and then every 12 calendar months inspection | Do this action following S.N. CENTRAIR Service Bulletin No. 101-16, Revision 3, dated February 2, 1999.
(2) If you detect cracks, replace airbrake control system | Before further flight after the inspection | Do this action following the S.N. CENTRAIR maintenance manual.
(i) For gliders equipped with manual aileron and airbrake control systems, install S.N. CENTRAIR part number (P/N) $YO57D or an FAA-approved equivalent part number.
(ii) For gliders equipped with an automatic aileron and airbrake control system, install S.N. CENTRAIR P/N $Y818E or an FAA-approved equivalent part number.
(3) You may stop the repetitive inspection requirement of this AD by replacing the air brake control system with the applicable part referenced in this AD | Before further flight if found cracked as required by paragraph (d)(2) of this AD; or At any time if the part is not cracked | Not applicable.
(4) You may not install any airbrake control system that is not of the applicable part numbers referenced in paragraphs (d)(2)(i) and (d)(2)(ii) of this AD | As of January 27, 2001 (the effective date of this AD) | Not applicable.

(e) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note 1: This AD applies to each glider identified in paragraph (a) of this AD, regardless of whether it has been modified, altered, or repaired in the area subject to the requirements of this AD. For gliders that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Mike Kiesov, Aerospace Engineer, FAA, Small Airplane Directorate, 901 Locust, Room 301, Kansas City, Missouri 64106; telephone: (816) 329-4144; facsimile: (816) 329-4090.

(g) What if I need to fly the glider to another location to comply with this AD? The FAA can issue a special flight permit under sections 21.197 and 21.199 of the Federal Aviation Regulations (14 CFR 21.197 and 21.199) to operate your glider to a location where you can accomplish the requirements of this AD.

(h) Are any service bulletins incorporated into this AD by reference? Actions required by this AD must be done in accordance with S.N. CENTRAIR Service Bulletin No. 101-16, Revision 3, dated February 2, 1999. The Director of the Federal Register approved this incorporation by reference under 5 U.S.C. 552(a) and 1 CFR part 51. You can get copies from S.N. CENTRAIR, Aerodome—36300 Le Blanc, France. You can look at copies at the FAA, Central Region, Office of the Regional Counsel, 901 Locust, Room 506, Kansas City, Missouri, or at the Office of the Federal Register, 800 North Capitol Street, NW, suite 700, Washington, DC.

(i) When does this amendment become effective?

This amendment becomes effective on January 27, 2001.

Note 2: The subject of this AD is addressed in French AD 1995-261(A) R3, dated January 26, 2000.

Issued in Kansas City, Missouri, on November 28, 2000.
William J. Timberlake,
Acting Manager, Small Airplane Directorate, Aircraft Certification Service.

[FR Doc. 00-30945 Filed 12-8-00; 8:45 am]

BILLING CODE 4910-13-U